DEPARTMENT OF DEFENSE

Office of the Secretary

Meeting of Federal Advisory Committee

AGENCY: Department of Defense.

ACTION: Meeting Notice.

SUMMARY: Under the provisions of the Federal Advisory Committee Act of 1972 (5 U.S.C., Appendix, as amended), the Government in the Sunshine Act of 1976 (5 U.S.C. 552b, as amended), and 41 CFR 102-3.150, the Department of Defense announces that the following Federal Advisory Committee meeting will take place:

1. Name of Committee: Department of Defense Task Force on the Care, Management, and Transition of Recovering Wounded, Ill, and Injured Members of the Armed Forces (subsequently referred to as the Task Force).

2. Date: Wednesday, May 18, 2011, Thursday, May 19, 2011.

3. Time: 8 a.m.-5:30 p.m.

4. Location: L'Enfant Plaza Hotel, 480 L'Enfant Plaza, SW., Washington, DC 20024.

5. Purpose of the Meeting: The purpose of the meeting is for the Task Force Members to convene and gather data from panels and briefers on the Task Force's topics of inquiry.

6. Agenda: (Please refer to http://dtf.defense.gov/rwtf/meetings.html for the most up-to-date meeting information).

8 a.m.-5:30 p.m. Wednesday 18 May 2011

8—Task Force Review of Installation Visits Conduced During April

9:45—Break

10—Manpower & Reserve Affairs Panel

11:30—Break. Working lunch. Training. Not Open to the Public

12:30—The Deputy Assistant Secretary of Defense for Wounded Warrior Care and Transition Policy (WWTCP), Office of the Under Secretary of Defense for Personnel and Readiness will present the DoD level programs and initiatives for Wounded Warriors. Panel Presentation of the following Topics.

Overview of WWTCP Presented by Mr. John Campbell and/or Principal Director Mr. Burdette.

Funding and Program management, POM initiatives, Metrics, and systems of accountability for DoD programs in WWTCP portfolio.

Employment Initiatives

Transition Assistance Program

Recovery Care Coordinator Program

Wounded Warrior Information Resources

Status of Integrated Disability Evaluation System

2—Break

2:15 p.m.—Panel for the Centers of Excellence for Hearing, Vision and Traumatic Injury of Extremities

3:15—Break

3:30—Federal Recovery Care Coordination Program

4:30-5:30—Wounded Ill and Injured Satisfaction Surveys

5:30—Close

8 a.m.-5:30 p.m. Thursday 19 May 2011

9—Public Forum

Presented by: Members of the Public who have requested an opportunity to provide a two-minute presentation to the Task Force.

9:15—Employment Panel, Local employers will provide a panel to determine how they feel about the employability of Military Members.

10:30—Break

10:45—Panel on Cognitive Rehabilitation Therapy and TBI.

12—Break. Training working lunch. Not Open to the Public

1—Interagency Program Office

2—Break

2:15—Counter Point Panel

3:15—Break

3:30—Special Operations Command Care Coalition Briefing

4:30-5—Closing

7. Public's Accessibility to the Meeting: Pursuant to 5 U.S.C. 552b and 41 CFR 102-3.140 through 102-3.165, and the availability of space, this meeting is open to the public. Seating is on a first-come basis.

8. Point of Contact: Denise F. Dailey, Designated Federal Officer, (703) 325-6640, Hoffman Building II, 200 Stovall St, Alexandria, VA 22332-0021, rwtf@wso.whs.mil.

SUPPLEMENTARY INFORMATION: Pursuant to 41 CFR 102-3.105(j) and 102-3.140, and section 10(a)(3) of the Federal Advisory Committee Act of 1972, the public or interested organizations may submit written statements to the Department of Defense Task Force on the Care, Management, and Transition of Recovering Wounded, Ill, and Injured Members of the Armed Forces about its mission and functions. Written statements may be submitted at any time or in response to the stated agenda of a planned meeting of the Department of Defense Task Force on the Care, Management, and Transition of Recovering Wounded, Ill, and Injured Members of the Armed Forces.

All written statements shall be submitted to the Designated Federal Officer for the Task Force through the above contact information, and this individual will ensure that the written statements are provided to the membership for their consideration.

Statements being submitted in response to the agenda mentioned in this notice must be received by the Designated Federal Officer at the address listed NLT 5 p.m. EDT, Wednesday May 11, 2011 which is the subject of this notice. Written statements received after this date may not be provided to or considered by the Task Force until its next meeting. Please mark mail correspondence as “Time Sensitive for May Meeting.”

The Designated Federal Officer will review all timely submissions with the Task Force Co-Chairs and ensure they are provided to all members of the Task Force before the meeting that is the subject of this notice.

If individuals are interested in making an oral statement during the Public Forum time period, a written statement for a presentation of two minutes must be submitted as above and must identify it is being submitted for an oral presentation by the person making the submission. Identification information must be provided and at a minimum must include a name and a phone number. Determination of who will be making an oral presentation will depend on the submitted topic's relevance to the Task Force's Charter. Individuals may visit the Task Force Web site at http://dtf.defense.gov/rwtf/ to view the Charter. Individuals making presentations will be notified by Friday May 13, 2011. Oral presentations will be permitted only on Thursday May 19, 2011 from 9:00 a.m. to 9:15 a.m. before the full Task Force. Number of oral presentations will not exceed five, with one minute of questions available to the Task Force members per presenter. Presenters should not exceed their two minutes.

Reasonable accommodations will be made for those individuals with disabilities who request them. Requests for additional services should be directed to Heather Jane Moore, (703) 325-6640, by 5 p.m. EDT, Wednesday May 11, 2011.

FOR FURTHER CONTACT INFORMATION: Mail Delivery service through Recovering Warrior Task Force, Hoffman Building II, 200 Stovall St, Alexandria, VA 22332-0021 “Mark as Time Sensitive for May Meeting”. E-mails to rwtf@wso.whs.mil. Telephone (703) 325-6640. Fax (703) 325-6710.

Dated: April 7, 2011.
Morgan F. Park,
Alternate OSD Federal Register Liaison Officer, Department of Defense.

[FR Doc. 2011-8724 Filed 4-11-11; 8:45 am]

BILLING CODE 5001-06-P